DEPARTMENT OF THE INTERIOR

Bureau of Land Management

Santa Rosa and San Jacinto Mountains National Monument Advisory Committee—Notice of Renewal

AGENCY: Bureau of Land Management, Interior.

ACTION: Notice of Renewal of the Santa Rosa and San Jacinto Mountains Advisory Committee.

SUMMARY: This notice is published in accordance with Section 9(a)(2) of the Federal Advisory Committee Act of 1972 (Pub. L. 92-463). Notice is hereby given that the Secretary of the Interior and the Secretary of Agriculture have renewed the Bureau of Land Management's Santa Rosa and San Jacinto Mountains National Monument Advisory Committee.

The purpose of the Committee is to advise the Secretaries with respect to the preparation and implementation of the Santa Rosa and San Jacinto Mountains National Monument Management Plan.

FOR FURTHER INFORMATION CONTACT: Douglas Herrema, National Landscape Conservation System (WO-170), Bureau of Land Management, 1849 C Street, NW., Room 5618, Washington, DC 20240, telephone (202) 208-3516.

Certification Statement

I hereby certify that the renewal of the Santa Rosa and San Jacinto Mountains National Monument Advisory Committee is necessary and in the public interest in connection with the Secretary of the Interior's and the Secretary of Agriculture's responsibilities to manage the lands, resources, and facilities administered by the Bureau of Land Management and the Forest Service.

Dirk Kempthorne,
Secretary of the Interior.

[FR Doc. E7-24442 Filed 12-17-07; 8:45 am]

BILLING CODE 3410-11-P